DEPARTMENT OF ENERGY

Federal Energy Regulatory Commission

Combined Notice of Filings

Take notice that the Commission has received the following Natural Gas Pipeline Rate and Refund Report filings:

Filings Instituting Proceedings

Docket Numbers: RP12-142-000.

Applicants: CenterPoint Energy Gas Transmission Company, LLC.

Description: Housekeeping Filing—Nov 2011 to be effective 1/1/2012.

Filed Date: 11/10/2011.

Accession Number: 20111110-5043.

Comment Date: 5 p.m. ET on 11/22/2011.

Docket Numbers: RP12-143-000.

Applicants: Southern Natural Gas Company, L.L.C.

Description: Misc Compliance Filing 3 (Res Charge Credit) to be effective 10/20/2011.

Filed Date: 11/10/2011.

Accession Number: 20111110-5130.

Comment Date: 5 p.m. ET on 11/22/2011.

Docket Numbers: RP12-144-000.

Applicants: Tennessee Gas Pipeline Company, L.L.C.

Description: TGP Name Change to TGP LLC to be effective 11/10/2011.

Filed Date: 11/10/2011.

Accession Number: 20111110-5158.

Comment Date: 5 p.m. ET on 11/22/2011.

Docket Numbers: RP12-145-000.

Applicants: TransColorado Gas Transmission Company LLC.

Description: 2011-11-11 Fuel Gas Reimbursement to be effective 12/12/2011 under RP12-145 Filing Type: 570.

Filed Date: 11/14/2011.

Accession Number: 20111114-5016.

Comment Date: 5 p.m. ET on 11/28/2011.

Docket Numbers: RP12-146-000.

Applicants: Mojave Pipeline Company, LLC.

Description: EBB Notice Categories to be effective 12/14/2011 under RP12-146. Filing Type: 570.

Filed Date: 11/14/2011.

Accession Number: 20111114-5243.

Comment Date: 5 p.m. ET on 11/28/2011.

Docket Numbers: RP12-147-000.

Applicants: Destin Pipeline Company, L.L.C.

Description: Annual Revenue Crediting Report of Destin Pipeline Company, L.L.C.

Filed Date: 11/10/2011.

Accession Number: 20111110-5177.

Comment Date: 5 p.m. ET on 11/22/2011.

Docket Numbers: RP12-148-000.

Applicants: Southern Natural Gas Company, L.L.C.

Description: Southern Natural Gas Company, L.L.C. 2011 Opertional Transactions Report.

Filed Date: 11/14/2011.

Accession Number: 20111114-5276.

Comment Date: 5 p.m. ET on 11/28/2011.

Docket Numbers: RP12-149-000.

Applicants: Eastern Shore Natural Gas Company.

Description: Storage Tracker 10-2011 to be effective 10/1/2011.

Filed Date: 11/14/2011.

Accession Number: 20111114-5379.

Comment Date: 5 p.m. ET on 11/28/2011.

Docket Numbers: RP12-150-000.

Applicants: Eastern Shore Natural Gas Company.

Description: Storage Tracker 11-2011 to be effective 11/1/2011.

Filed Date: 11/14/2011.

Accession Number: 20111114-5411.

Comment Date: 5 p.m. ET on 11/28/2011.

Docket Numbers: RP12-151-000.

Applicants: Discovery Gas Transmission LLC.

Description: 2012 HMRE Filing to be effective 1/1/2012.

Filed Date: 11/15/2011.

Accession Number: 20111115-5052.

Comment Date: 5 p.m. Eastern Time on Monday, November 28, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-51-001.

Applicants: Gulf Crossing Pipeline Company LLC.

Description: Amendment to RP12-51-000 to be effective 11/1/2011.

Filed Date: 11/14/2011.

Accession Number: 20111114-5162.

Comment Date: 5 p.m. ET on 11/28/2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 15, 2011.
Nathaniel J. Davis, Sr.,
Deputy Secretary.

[FR Doc. 2011-30066 Filed 11-21-11; 8:45 am]

BILLING CODE 6717-01-P